DEPARTMENT OF THE INTERIOR

Bureau of Land Management

[CA 160-1220-PG]

Call for Nominations for Carrizo Plain National Monument Advisory Committee

AGENCY: Bureau of Land Management, (BLM), Interior.

ACTION: Call for nominations for the Carrizo Plain National Monument Advisory Committee under Section 309 of the Federal Land Policy and Management Act (Pub. L. 94-579 and 43 CFR 1784 4-1).

SUMMARY: The purpose of this notice is to request public nominations for the Carrizo Plain National Monument Resource Advisory Committee. The advisory committee has nine member terms expiring in December of this year. The terms of the council members are three years long. Meetings are usually held quarterly, however additional meetings may be called if necessary. The committee advises the Secretary of the Interior and the Bureau of Land Management on resource management issues associated with the Carrizo Plain National Monument. BLM will consider public nominations for 30 days after the publication date of this notice.

DATES: Submit a completed nomination form and nomination letters to the address listed below by December 9, 2005.

ADDRESSES: Send nominations to: Field Manager, Bakersfield Field Office, Bureau of Land Management, 3801 Pegasus Avenue, Bakersfield, California 93308.

FOR FURTHER INFORMATION CONTACT: Ron Huntsinger, Bakersfield Field Office manager, (661) 391-6000.

SUPPLEMENTARY INFORMATION: Any individual or organization may nominate one or more persons to serve on the Carrizo Plain National Monument Advisory Committee. Individuals may nominate themselves for committee membership. Nomination forms can be obtained from the Bakersfield Field Office, Bureau of Land Management (see ADDRESS above). To make a nomination, you must submit a completed nomination form, letters of reference from the interests or organizations the nominee intends to represent, as well as any other information that speaks to the nominee's qualifications, to the Bakersfield Field Office. You may make nominations for the following categories of interest:

(1) A member of, or nominated by, the San Luis Obispo Board of Supervisors.

(2) A member of, or nominated by, the Kern County Board of Supervisors.

(3) A member of, or nominated by, the Carrizo Native American Advisory Council.

(4) A member of, or nominated by, the Central California Resource Advisory Council.

(5) A member representing individuals or companies authorized to graze livestock within the National Monument.

(6) Four members with recognized backgrounds reflecting:

(a) The purposes for which the monument was established and

(b) The interests of other stakeholders, including the general public, that are affected by or interested in the planning and management of the National Monument.

The specific category the nominee would like to represent should be identified in the letter of nomination and in the nomination form. The Bakersfield Field Office will collect the nomination forms and letters of reference and, in the case of categories 1-4 (above) distribute them to the officials responsible for submitting nominations. The Bureau of Land Management will then forward recommended nominations to the Secretary of the Interior, who has responsibility for making the appointments.

The purpose of the Carrizo Plain National Monument Advisory Committee is to advise the Bureau of Land Management on the management of the monument. Each member will be a person who, as a result of training and experience, has knowledge or special expertise which qualifies him or her to provide advice from among the categories of interest listed above.

Members will serve without monetary compensation, but will be reimbursed for travel and per diem expenses at current rates for government employees,

Dated: September 27, 2005.
Janet Bedrosian,
Acting State Director, California BLM.

[FR Doc. 05-22347 Filed 11-8-05; 8:45 am]

BILLING CODE 4310-84-P